DEPARTMENT OF TRANSPORTATION

Surface Transportation Board

[STB Docket No. AB-55 (Sub-No. 697X)]

CSX Transportation, Inc.—Abandonment Exemption—in Glynn County, GA

On May 22, 2009, CSX Transportation, Inc. (CSXT) filed with the Board a petition under 49 U.S.C. 10502 for exemption from the provisions of 49 U.S.C. 10903 to abandon a 0.31-mile rail line on its Southern Region, Jacksonville Division, Brunswick Subdivision, between milepost AOB 534.36 and milepost AOB 534.67 in Brunswick, Glynn County, GA. The line traverses United States Postal Service Zip Code 31520.

CSXT also requests expedited consideration of the exemption petition, including effectiveness of the exemption no later than August 1, 2009. CSXT states that expedited action is necessary here because a new middle school has been built to the east of the right-of-way. In order to access the school, a new road must be built across the line. CSXT argues that construction must begin soon in order for the new road to be completed before the start of the school year. Therefore, CSXT contends that expedited handling of the abandonment is warranted. The request will be addressed in the final decision.

The line does not contain federally granted rights-of-way. Any documentation in CSXT's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by September 9, 2009, or sooner if the request to expedite is granted.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than July 1, 2009. Each trail use request must be accompanied by a $250 filing fee. See 49 CFR 1002.2(f)(27).¹

¹ On June 4, 2009, the Board increased the fee for trails use requests. See Regulations Governing Fees for Services Performed in Connection with Licensing and Related Services—2009 Update, STB Ex Parte No. 542 (Sub-No. 16) (STB served May 5, 2009).

All filings in response to this notice must refer to STB Docket No. AB-55 (Sub-No. 697X), and must be sent to: (1) Surface Transportation Board, 395 E Street, SW., Washington, DC 20423-0001; and (2) Louis E. Gitomer, Esq., 600 Baltimore Avenue, Suite 301, Towson, MD 21204-4022. Replies to the petition are due on or before July 1, 2009.

Persons seeking further information concerning abandonment procedures may contact the Board's Office of Public Assistance, Governmental Affairs, and Compliance at (202) 245-0238 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: June 5, 2009.
By the Board, Rachel D. Campbell, Director, Office of Proceedings.
Kulunie L. Cannon,
Clearance Clerk.

[FR Doc. E9-13686 Filed 6-10-09; 8:45 am]

BILLING CODE 4915-01-P